DEPARTMENT OF HEALTH AND HUMAN SERVICES

Health Resources and Services Administration

Agency Information Collection Activities: Submission to OMB for Review and Approval; Public Comment Request; Children's Graduate Medical Education Quality Bonus System (QBS) Initiative Response Form, OMB No. 0906-xxxx-New

AGENCY: Health Resources and Services Administration (HRSA), Department of Health and Human Services (HHS).

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than March 11, 2019.

ADDRESSES: Submit your comments, including the ICR Title, to the desk officer for HRSA either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference.

Information Collection Request Title: Quality Bonus System Initiative Response Form OMB No. 0906-xxxx [New].

Abstract: The Children's Hospitals Graduate Medical Education (CHGME) Payment Program provides federal funds to the nation's freestanding children's hospitals to help them maintain their graduate medical education programs that train resident physicians and dentists. CHGME Support Reauthorization Act of 2013 states that the Secretary may establish a Quality Bonus System (QBS), whereby the Secretary distributes bonus payments to hospitals participating in the CHGME Payment Program that meet standards specified by the Secretary. In order to qualify for the QBS payment in Fiscal Year (FY) 2019, CHGME award recipients must submit documentation as an attachment in the FY 2019 reconciliation application released in April 2019, describing the hospital's initiatives, resident curriculum, and direct resident involvement in the following areas:

a. Integrated care models (e.g., integrated behavioral and mental health, care coordination across providers and settings);

b. Telehealth and/or Health Information Technology;

c. Population health;

d. Social determinants of health; and

e. Additional initiatives to improve access and quality of care to rural and/or underserved communities.

A 60-day notice was published in the Federal Register on October 23, 2018, Vol. 83, No. 205.

Need and Proposed Use of the Information: As specified in the CHGME statute, the QBS payment shall be remitted to qualified hospitals participating in the CHGME program that meet standards set forth by the Secretary of HHS. To demonstrate the fulfillment of such standards, it will be necessary for applicants to complete the QBS Response Initiative form and submit it as an attachment to the FY 2019 reconciliation application released in April of 2019. This form will be used to gather information relating to the hospitals' engagement in quality initiatives.

Likely Respondents: CHGME Program award recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
QBS Response Initiative Form | 58 | 1 | 58 | 32.41 | 1,880
Total | 58 |  | 58 |  | 1,880

Amy P. McNulty,
Acting Director, Division of the Executive Secretariat.

[FR Doc. 2019-01434 Filed 2-6-19; 8:45 am]

BILLING CODE 4165-15-P